DEPARTMENT OF THE TREASURY

Alcohol and Tobacco Tax and Trade Bureau

27 CFR Part 9

[Docket No. TTB-2022-0003; Notice No. 209]

RIN 1513-AC79

Proposed Establishment of the Long Valley-Lake County Viticultural Area and Modification of the High Valley and North Coast Viticultural Areas

AGENCY: Alcohol and Tobacco Tax and Trade Bureau, Treasury.

ACTION: Notice of proposed rulemaking.

SUMMARY: The Alcohol and Tobacco Tax and Trade Bureau (TTB) proposes to establish the approximately 7,605-acre “Long Valley-Lake County” viticultural area in Lake County, California. Additionally, TTB proposes to expand the boundary of the established 14,000-acre High Valley viticultural area by approximately 1,542 acres in order to create a contiguous border with the proposed Long Valley-Lake County viticultural area. Only the western third of the proposed Long Valley-Lake County viticultural area, and approximately three quarters of the High Valley viticultural area, would lie within the established, multi-county North Coast viticultural area. To avoid this partial overlap with the High Valley and proposed Long Valley-Lake County viticultural areas, TTB is proposing to expand the boundary of the North Coast viticultural area by approximately 23,690 acres. TTB designates viticultural areas to allow vintners to better describe the origin of their wines and to allow consumers to better identify wines they may purchase. TTB invites comments on these proposals.

DATES: TTB must receive your comments on or before May 9, 2022.

ADDRESSES: You may electronically submit comments to TTB on this proposal and view copies of this document, its supporting materials, and any comments TTB receives on the proposal within Docket No. TTB-2022-0003, as posted on Regulations.gov https://www.regulations.gov), the Federal e-rulemaking portal. Please see the “Public Participation” section of this document below for full details on how to comment on this proposal via Regulations.gov or U.S. mail, and for full details on how to obtain copies of this document, its supporting materials, and any comments related to this proposal.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the FAA Act pursuant to section 1111(d) of the Homeland Security Act of 2002, codified at 6 U.S.C. 531(d). The Secretary has delegated the functions and duties in the administration and enforcement of these provisions to the TTB Administrator through Treasury Department Order 120-01, dated December 10, 2013 (superseding Treasury Order 120-01, dated January 24, 2003).

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to its geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and allows any interested party to petition TTB to establish a grape-growing region as an AVA. Section 9.12 of the TTB regulations (27 CFR 9.12) prescribes standards for petitions to establish or modify AVAs. Petitions to establish an AVA must include the following:

• Evidence that the area within the proposed AVA boundary is nationally or locally known by the AVA name specified in the petition;

• An explanation of the basis for defining the boundary of the proposed AVA;

• A narrative description of the features of the proposed AVA that affect viticulture, such as climate, geology, soils, physical features, and elevation, that make the proposed AVA distinctive and distinguish it from adjacent areas outside the proposed AVA boundary;

• The appropriate United States Geological Survey (USGS) map(s) showing the location of the proposed AVA, with the boundary of the proposed AVA clearly drawn thereon; and

• A detailed narrative description of the proposed AVA boundary based on USGS map markings.

If the petition proposes the establishment of a new AVA entirely within, or overlapping, an existing AVA, the evidence submitted must include information that identifies the attributes that are consistent with the existing AVA and explain how the proposed AVA is sufficiently distinct from the existing AVA and therefore appropriate for separate recognition. If a petition seeks to expand the boundaries of an existing AVA, the petition must show how the name of the existing AVA also applies to the expansion area, and must demonstrate that the area covered by the expansion has the same distinguishing features as those of the existing AVA, and different features from those of the area outside the proposed, new boundary.

Petition To Establish the Long Valley-Lake County AVA and To Modify the Boundaries of the High Valley and North Coast AVAs

TTB received a petition from Terry Dereniuk, owner of Terry Dereniuk Consulting, and Don Van Pelt and Clay Shannon, of Cache Creek Vineyards and the Shannon Family of Wines, proposing to establish the “Long Valley-Lake County” AVA and to modify the boundaries of the existing High Valley (27 CFR 9.189) and North Coast (27 CFR 9.30) AVAs. The petition was submitted on behalf of Long Valley wine grape growers. The proposed Long Valley-Lake County AVA is located in Lake County, California, and is partially within the existing North Coast AVA. The proposed AVA is also to the north and east of the established High Valley AVA. The approximately 7,605-acre proposed AVA currently contains 3 wineries and 5 commercial vineyards, which cover a total of approximately 149 acres.

The western third of the proposed Long Valley-Lake County AVA, and approximately three quarters of the High Valley AVA, would lie within the existing North Coast AVA. To address the partial overlap and account for viticultural similarities, the petition also proposes to expand the boundary of the North Coast AVA so that the entire High Valley and proposed Long Valley-Lake County AVAs would be included within the North Coast AVA. The proposed expansion would increase the size of the North Coast AVA by 23,690 acres. Currently, there are five vineyards within the proposed North Coast AVA expansion area. The petition included three letters of support for the proposed expansion.

Furthermore, the petition proposes to expand the boundary of the established High Valley AVA. The proposed Long Valley-Lake County AVA lies to the north and east of the established AVA and shares a small part of its boundary. However, there is a small gap between the northern boundary of the High Valley AVA and the southern boundary of the proposed Long Valley-Lake County AVA. The petition proposes to expand the High Valley AVA northward, eliminating the gap and making the northern boundary of the High Valley AVA contiguous with the southern boundary of the proposed AVA. The proposed boundary modification would increase the size of the 14,000-acre High Valley AVA by approximately 1,542 acres. The petition included a letter from a member of the committee that originally proposed the establishment of the High Valley AVA. The letter supports the proposed High Valley AVA expansion as a way to avoid “the creation of an area that will be part of neither” the High Valley AVA nor the proposed Long Valley-Lake County AVA. The expansion would affect one grower, dividing the grower's acreage between the High Valley AVA and the proposed Long Valley-Lake County AVA. The petition included a letter from the grower, supporting the expansion and acknowledging its effect. Currently, there are no other vineyards within the proposed expansion area.

The distinguishing features of the proposed Long Valley-Lake County AVA include its topography and elevation, geology, and climate. Unless otherwise noted, all information and data contained in the following sections are from the petition to establish the proposed AVA and its supporting exhibits.

Proposed Long Valley-Lake County AVA

Name Evidence

According to the petition, settlers began arriving in the region of the proposed Long Valley-Lake County AVA in the mid-1800s. An entry in the book History of Napa and Lake Counties shows that by the time the book was published in 1881, the region was already known as “Long Valley.” ¹ The entry is a listing of the distances from Lakeport, California, to various other locations in Lake County, including a notation that “Long Valley” is 30 miles from Lakeport. Another description of Lake County published by the Lake County Board of Supervisors in 1888 notes that, “Long Valley lies on the east side of Clear Lake, and is separated from it by a high range of mountains.” ²

¹ History of Napa and Lake Counties, California (Slocum, Bowen, & Co., Publishers 1881) page 89. See also Figure 1 of the petition in Docket TTB-2022-0003 at https://www.regulations.gov.

² James Hilly, Upper Lake, A Description of Lake County California, published by authority of the Board of Supervisors, 1888, page 8.

The petition also included more recent evidence that the region of the proposed AVA is referred to as “Long Valley.” For example, a 1955 report on the ground water of Lake County includes a 4-page entry for “Long Valley” and notes that the valley is “about 5 miles north of Clearlake Oaks.” ³ Long Valley is also identified on the 1996 USGS Clearlake Oaks quadrangle map used to form part of the proposed boundary. Two roads running through the proposed AVA are named New Long Valley Road and Old Long Valley Road, and a creek that runs along the valley floor is called Long Valley Creek. The roads and creek are shown on a 2015 AAA Road map included in the petition as Appendix Exhibit 6. In Ground Water Bulletin 118, the California Department of Water Resources designates the groundwater basin beneath the region of the proposed AVA as “Long Valley Groundwater Basin.” ⁴ The Shoreline Communities Area Plan prepared by the Lake County Development Department in 2009 notes, “The primary areas within the planning area designated as agriculture include High Valley, Long Valley, and properties with active Williamson Act (Agricultural Preserve) contracts.” ⁵ Finally, a 2012 article about a wildfire in the Lake County states that the fire “had people in the nearby Spring Valley and Long Valley communities under evacuation orders.” ⁶

³ Upson, J.E., and Fred Kinkel. Ground Water of the Lower Lake-Middletown Area Lake County, California. Geological Survey Water-Supply Paper 1297. Washington: U.S. Government Printing Office, 1955.

⁴ California Department of Water Resources. California's Ground Water Bulletin 118. California Department of Water Resources: 1975. Updated 2004.

⁵ The Shoreline Communities Area Plan prepared by Lake County Community Development Department, page 1-3.

⁶ https://www.nbcbayarea.com/news/local/Wye-Fire-in-Lake-County-Burns-Out-of-Control-165934666.html. See also Appendix Exhibit 8 of the petition in Docket TTB-2022-0003 at https://www.regulations.gov.

Boundary Evidence

The proposed Long Valley-Lake County AVA includes Long Valley, a long, narrow valley oriented along a northwest-southeast axis. The proposed AVA contains the valley floor as well as the surrounding hillsides and bench lands that rise from 200 to 500 feet above the valley floor. The proposed northern boundary primarily follows the 1,400-foot elevation contour. The proposed AVA is bounded on the north by the Mendocino National Forest, which was excluded from the proposed AVA because it is not available for commercial viticulture. The proposed eastern boundary also primarily follows the 1,400-elevation contour and separates the proposed AVA from steep, mountainous terrain. The proposed AVA is bounded on the southwest by State Highway 20, which separates the proposed AVA from higher elevations and hillier terrain that lacks open valley floor, and on the southeast by the 1,200-foot elevation contour. The proposed western boundary follows the 1,600-foot elevation contour, which also separates the proposed AVA from the established High Valley AVA.

Distinguishing Features

According to the petition, the distinguishing features of the proposed Long Valley-Lake County AVA include its topography and elevation, geology, and climate.

Topography and Elevation

According to the petition, elevations and slope angles within the proposed Long Valley-Lake County AVA vary due to its topography of rolling foothills, benches, and valley floor. The median elevation of the valley floor is approximately 1,322 feet above sea level, while the lowest valley floor elevations are at the southern end of the proposed AVA and reach approximately 1,063 feet above sea level. The foothills included in the proposed AVA rise an additional 200 to 500 feet above the valley floor. The valley floor and benches are generally flat with slopes from 0 to 10 percent. The hillsides are steeper, with slope angles in some areas reaching more than 30 percent.

The petition states that the topography of the proposed AVA, with its long, narrow valley floor between surrounding mountains, provides a beneficial environment for viticulture. Air drainage provides protection from damaging late spring frosts in vineyards along the benches, which are higher than the valley floor. The petition notes that Noggle Vineyard and Winery, which is located on a bench on the west side of the proposed AVA, does not use mechanical frost protection methods and instead relies on the cold air drainage to protect its vines. Vineyards on the lower valley floor within the proposed AVA are at a higher risk for damaging frosts due to their flat slope angles and lower elevations. As a result, valley floor vineyards like the Shannon Ridge vineyards use frost protection methods such as overhead sprinklers. However, during the growing season, vineyards on the valley floor benefit from winds that blow through the valley and cool the vines from the heat of the day.

To the west and southwest of the proposed AVA, the established High Valley AVA has higher elevations than the proposed Long Valley-Lake County AVA. Elevations in the valley floor of the High Valley AVA are between 1,700 and 1,800 feet, and elevations on the surrounding ridges are as high as 3,000 feet. To the east and south of the proposed AVA are steep hillsides with slope angles exceeding 30 percent and elevations that rise to 2,000 feet at the highest peaks.

Geology

According to the petition, geology is a significant distinguishing feature of the proposed Long Valley-Lake County AVA. The proposed AVA sits on what is known as the Cache Formation, which is estimated to be 1.6 to 2.8 million years old and from the Pliocene and early Pleistocene period. The formation is largely made up of lake deposits and consists of tuffaceous and diatomaceous sands and silts, limestone, gravel, and intercalated volcanic rocks. The Cache Formation is the foundation for the soils of the proposed AVA and the nutrients found therein, meaning that the roots of vines grown in the Cache Formation will come into contact with a different set of minerals and nutrients than vines grown elsewhere.

To the north and west of the proposed Long Valley-Lake County AVA, the primary geologic formation is the Franciscan Formation. This formation is comprised of Cretaceous and Jurassic sandstone with similar amounts of shale, chert, limestone, and conglomerate rocks from the Mesozoic period. To the east and south of the proposed AVA is the Great Valley Sequence. Holocene volcanic flow rocks and minor pyroclastic deposits, as well as the Franciscan Formation and ultramafic rocks, also occur to the south and east of the proposed AVA.

Climate

The petition provided information about the climate of the proposed Long Valley-Lake County AVA, including annual rainfall amounts and growing degree day (GDD) accumulations.⁷ First, the petition notes that based on data from a California groundwater bulletin, annual rainfall amounts within the proposed AVA generally range between 27 and 33 inches, increasing to the west.⁸ The bulletin states that to the southeast of the proposed Long Valley-Lake County AVA, within the Clear Lake Cache Formation Groundwater Basin, annual precipitation amounts range from 25 to 29 inches. South of the proposed AVA, within the Burns Valley Basin, annual precipitation is approximately 27 inches. West and southwest of the proposed AVA, in the High Valley Groundwater Basin, annual precipitation ranges from 27 to 35 inches, decreasing to the east; however, the petition notes that annual precipitation amounts within the High Valley AVA, which is located within the High Valley Groundwater Basin, can reach up to 54 inches. To the northwest of the proposed AVA is the Middle Creek Groundwater Basin, and the California groundwater bulletin indicates that annual precipitation amounts in that region range from 43 to 45 inches, increasing to the north. Rainfall data was not provided for the regions to the north and east of the proposed AVA.

⁷ See Albert J. Winkler, General Viticulture (Berkeley: University of California Press, 1974), pages 61-64. In the Winkler climate classification system, annual heat accumulation during the growing season, measured in annual GDDs, defines climatic regions. One GDD accumulates for each degree Fahrenheit that a day's mean temperature is above 50 degrees F, the minimum temperature required for grapevine growth.

⁸ California Groundwater Bulletin 118, Sacramento Valley Groundwater Basin, Long Valley Groundwater Basin 5-31, February 27, 2004.

The petition also includes measurements for rainfall amounts from three specific vineyard locations within the proposed AVA. Noggle Vineyards is located on a bench west of the southern end of the Long Valley floor. Garner Ranch is located in the western portion of the valley floor, which typically receives higher rainfall amounts than the eastern portion of the valley. Garner Ranch is also located at elevations lower than Noggle Vineyards and higher than Spring Valley. The Spring Valley location is located on the southeastern side of the valley floor, at elevations lower than both of the other two locations.

⁹ The rainfall amounts were collected from July of the first year to June of the following year.

Table 1—Annual Precipitation Amounts at Noggle Vineyards ⁹
Year | Inches
2016-2017 | 41.4
2015-2016 | 29.85
2014-2015 | 28
2013-2014 | 16.8
2012-2013 | 20.5
2011-2012 | 18.81
2010-2011 | 38.45
2009-2010 | 30.9
2008-2009 | 20.1
2007-2008 | 22.5
2006-2007 | 16.2
2005-2006 | 50.4
2004-2005 | 38.75
2003-2004 | 30.08
2002-2003 | 14.65
Median Annual Rainfall | 28

Table 2—Annual Precipitation Amounts at Garner Ranch ¹⁰
Year | Inches
2015-2016 | 51.98
2014-2015 | 44.06
2013-2014 | 8.83
2012-2013 | 40.32
2011-2012 | 12.24
2010-2011 | 43.82
2009-2010 | 35.19
2008-2009 | 45.57
2007-2008 | 30.44
2006-2007 | 34.65
2005-2006 | 36.45
2004-2005 | 47.76
2003-2004 | 48.95
2002-2003 | 44.01
2001-2002 | 45.53
Median Annual Rainfall | 43.82

Table 3—Annual Precipitation Amounts in Spring Valley ¹¹
Year | Inches
2017 | 43.15
2016 | 29.6
2015 | 26
2014 | 15.5
2013 | 22.5
2012 | 20.7
2011 | 40
2010 | 30
2009 | 22
2008 | 22
Median Annual Rainfall | 24.25

According to the petition, annual rainfall plays a critical role in ensuring recharge of the underlying groundwater and providing water for irrigation. Based on a recent study of wine grape production in Lake County,¹² wine grapes require an average of 8 to 11 acre inches per year for irrigation purposes. The water is also used for frost protection in the lower, flatter portions of the proposed AVA.

¹⁰ The rainfall amounts were collected from July of the first year to June of the following year.

¹¹ The rainfall amounts were collected from January to December.

¹² McGourty, Glenn, et al. Vineyard Water Use in Lake County, California. December 1, 2014. Accessed from https://www.lakecountywinegrape.org/wp-content/uploads/2014/08/Lake-County-Vineyard-Water-Use-UC-Cooperative-Extension-December-1-2014.pdf.

The petition also included information on annual growing degree day (GDD) accumulations within the proposed AVA. The petition included GDD information from three locations within the proposed AVA. However, because one of the locations only had data from two years and the second only had data from a single year, TTB is not including those locations in the following table.

Table 4—GDD Accumulations from Noggle Vineyards
Year | GDDs
2016 | 3,377
2015 | 3,596
2014 | 3,668
2013 | 3,355
2012 | 3,305
2011 | 2,955
2010 | 2,882
2009 | 3,416
2008 | 3,432
2007 | 3,126
2006 | 3,355
2005 | 3,112
2004 | 3,430
2003 | 4,277
Average | 3,378

Based on the data in the table, the proposed Long Valley-Lake County AVA is classified as Region III on the Winkler scale.¹³ According to the petition, a location's classification on the Winkler scale can predict the site's suitability for growing specific grape varieties.¹⁴ The petition states that Region III is favorable for high production of standard to good quality table wines.¹⁵ The proposed AVA is known for producing red wine grapes such as Cabernet Sauvignon, Cabernet Franc, Petite Sirah, and Syrah.

¹³ The Winkler scale GDD regions are as follows: Region Ia, 1,500-2,000; Region Ib, 2,000-2,500; Region II, 2,500-3,000; Region III, 3,000-3,500; Region IV, 3,500-4,000: Region V, 4,000-4,900.

¹⁴ Albert J. Winkler, General Viticulture (Berkeley: University of California Press, 1974), pages 61-64.

¹⁵ Gregory V. Jones, Ph.D., Climate Characteristics for Winegrape Production in Lake County California, report for Lake County Winegrape Commission, www.lakecountywinegrape.org.

By contrast, the established High Valley AVA, which is located to the immediate south and west of the proposed AVA, has annual GDD accumulations that range from a low of 3,139 to a high of 3,775, with an average of 3,447. Farther south, in the established Red Hills Lake County AVA (27 CFR 9.169), annual GDD accumulations range from 3,155 to 3,753, with a median of 3,595. These GDD accumulations suggest a warmer climate to the south and west of the proposed AVA and place the High Valley AVA in the higher end of Region III and the Red Hills Lake County AVA in the lower end of Region IV. However, farther to the west and southwest of the proposed AVA, in the established Benmore Valley (27 CFR 9.138), Big Valley District-Lake County (27 CFR 9.232), and Kelsey Bench-Lake County (27 CFR 9.233) AVAs, median GDD accumulations are lower, at 3,248, 3,245, and 3,250, respectively. To the southeast of the proposed AVA, the Capay Valley (27 CFR 9.176) and Guenoc Valley (27 CFR 9.26) AVAs have annual GDD accumulations ranging from 2,963-4,318 and 3,420-3,796, respectively, which suggests that this region has a warmer climate than the proposed AVA. The petition did not provide annual GDD accumulation averages for regions to the due north or due east of the proposed AVA.

Summary of Distinguishing Features

The following table summarizes the characteristics of the proposed Long Valley-Lake County AVA and compares them to the features of the surrounding regions.

Table 5—Summary of Distinguishing Features
Region | Features
Proposed AVA | Valley floor, rolling hills, and benches; median elevation of 1,322 feet; valley floor and bench slope angles from 0 to 10 percent with steeper hillsides; primary geologic feature is Cache Formation comprised of tuffaceous and diatomaceous sands and silts, limestone, gravel, and intercalated volcanic rock; annual rainfall amounts from 27 to 33 inches within the Long Valley Groundwater Basin; average GDD accumulations of 3,378; Winkler scale Region III.
North | Primary geologic feature is Franciscan Formation of sandstone, shale, chert, limestone, and conglomerate rocks; annual rainfall amounts in the Middle Creek Groundwater Basin (northwest of proposed AVA) range from 43 to 45 inches.
East | Steep hillsides with slope angles exceeding 30 percent; primary geologic feature is Great Valley Sequence with Holocene volcanic flow rocks and minor pyroclastic deposits; annual rainfall amounts within Clear Lake Cache Formation Groundwater Basin (southeast of proposed AVA) range from 25 to 29 inches.
South | Primary geologic feature is Great Valley Sequence with Holocene volcanic flow rocks and minor pyroclastic deposits; annual rainfall amount in the Burns Valley Basin is 27 inches; higher GDD accumulations.
West | Higher elevations up to 3,000 feet; annual rainfall amounts in High Valley Groundwater Basin ranges from 27 to 35 inches; higher GDD accumulations.

Comparison of the Proposed Long Valley-Lake County AVA to the Existing North Coast AVA

The North Coast AVA was established by T.D. ATF-145, which was published in the Federal Register on September 21, 1983 (48 FR 42973). T.D. ATF-145 describes the topography of the North Coast AVA as “flat valleys and tillable hillsides surrounded by mountains.” The North Coast AVA is generally characterized as having climatic Regions I through III on the Winkler scale. The average annual rainfall amount in the North Coast AVA is 36.2 inches.

The proposed Long Valley-Lake County AVA is partially located within the North Coast AVA and shares some of the characteristics of the larger established AVA. For example, similar to other locations in the North Coast AVA, Long Valley is a northwest-southeast oriented valley surrounded by tillable foothills or hillsides suitable for planting wine grapes and steeper mountains. The proposed AVA is also classified as Region III on the Winkler scale, which is within the range of classifications found in the North Coast AVA. The western portion of the proposed Long Valley-Lake County AVA, which is entirely located within the North Coast AVA, has average annual precipitation amounts that are similar to those of the North Coast AVA. However, due to lower average annual rainfall amounts in its eastern portion, the smaller proposed Long Valley-Lake County as a whole has lower average rainfall amounts than the large, multi-county North Coast AVA.

Proposed Modification of the North Coast AVA

As previously noted, the petition to establish the proposed Long Valley-Lake County AVA also requested an expansion of the established North Coast AVA. The proposed Long Valley-Lake County AVA is located along the eastern boundary of the North Coast AVA. The western third of the proposed AVA would, if established, be located within the current boundary of the North Coast AVA. However, unless the boundary of the North Coast AVA is modified, the remaining two-thirds of the proposed AVA would be outside the North Coast AVA. Additionally, the established High Valley AVA currently partially overlaps the North Coast AVA. If approved, the proposed North Coast AVA expansion would place both the High Valley AVA and the adjacent proposed Long Valley-Lake County AVA entirely within the North Coast AVA.

Currently, the North Coast AVA boundary in the vicinity of the proposed Long Valley-Lake County AVA and the proposed expansion area follows a straight line drawn from the southern boundary of the Mendocino National Forest to the summit of Round Mountain, which is within the established High Valley AVA. The boundary then follows a straight line from Round Mountain to the summit of Bally Peak and then to the summit of Brushy Sky High Mountain. The proposed boundary modification would move the North Coast AVA boundary east. The proposed boundary modification would begin at the point where the current boundary intersects the summit of Evans Peak. From there, the proposed boundary would proceed southeasterly in a straight line to the summit of Chalk Mountain, and then continue in a straight line southeasterly to the summit of Red Rocks. Finally, the boundary would proceed southeasterly to the summit of Brushy Sky High Mountain, where it would rejoin the current boundary. The proposed boundary modification would add 23,690 acres to the North Coast AVA.

The expansion petition notes that at the time the North Coast AVA was established, the High Valley AVA did not exist and there was limited viticultural activity in the region. Now, several vineyards and wineries exist within the proposed expansion area. The petition included letters of support for the proposed North Coast AVA expansion from a Lake County attorney and wine grape grower, the University of California Cooperative Extension Winegrape and Plant Science Advisor, and the president of the Lake County Winegrape Commission.

The petition included evidence that, although only a portion of Lake County was originally included in the North Coast AVA, the name “North Coast” applies to the region of the county that is within the proposed expansion area, as well. For example, the Wine Institute's web page states, “The western portion of Lake County comprises the North Coast AVA. It encompasses the Clear Lake AVA, * * * the Red Hills Lake County AVA, and High Valley AVA.” ¹⁶ The petition notes that the Wine Institute's web page does not distinguish between the western portion of the High Valley AVA and the eastern portion, which is not within the North Coast AVA, suggesting that the proposed expansion area is associated with the North Coast AVA even though it is not technically part of it. The petition also states that an online directory of Californian camping locations mentions that the “southern portion of the North Coast is largely urbanized and it includes Sonoma, Napa and Lake Counties.” ¹⁷ As the petition notes, the website includes all of Lake County within the region known as the “North Coast” and does not distinguish between the western and eastern portions of the county.

¹⁶ https://www.wineinstitute.org/resources/consumerfeaturedstories/article338.

¹⁷ https://www.camp-california.com/rv-camping-destination/north-coast.

The expansion petition claims that the proposed North Coast AVA expansion area has features that are similar to those described as distinguishing features of the North Coast AVA in T.D. ATF-145, namely cooling winds, growing degree days, and rainfall. First, the expansion petition describes the wind patterns within the proposed expansion area and the North Coast AVA. T.D. ATF-145 notes, “While confirming that Lake County does not receive coastal fog, evidence was presented that coastal air flows through gaps in the mountains and across Clear Lake, cooling the area surrounding the Lake * * *.” The expansion petition notes that two of these gaps are northwest of the High Valley AVA, the proposed Long Valley-Lake County AVA, and the proposed expansion area and likely influence air flow from the west. The gaps are illustrated in two maps included in the expansion petition as Figures 31 and 32.

The petition also included a wind map of the northern coastal regions of California (Figure 33) which shows winds moving eastward into the proposed expansion area before turning to the north. Although the wind map only shows the wind pattern for a single day in 2018, it does suggest that marine winds can reach the proposed North Coast AVA expansion area. The petition also included an article about a 2018 wildfire in the Spring Valley region of the proposed expansion area that provides anecdotal evidence of marine air reaching the proposed expansion area. The article states, “While the Sunday winds wreaked havoc on firefighting efforts, they also helped pull in a heavy marine layer overnight that brought a welcomed spike in humidity. Much of Sonoma County was bathed in fog Monday morning and that same coastal influence helped keep moisture levels up—and temperatures down—at the fire.” ¹⁸

¹⁸ Randi Rossman, Martin Espinoza and Kevin McCallum. “Pawnee fire in Lake County jumps to 11,500 acres.” The Santa Rosa Press Democrat, June 25, 2018. https://www.pressdemocrat.com/news/8468876-181/pawnee-fire-in-lake-county. See also Appendix Exhibit 18 to the petition in Docket TTB-2022-0003 at https://www.regulations.gov.

Next, the expansion petition compared the GDDs of the proposed North Coast AVA expansion area to those of the established North Coast AVA. T.D. ATF-145 concludes that the North Coast AVA is “generally characterized as having climatic Regions I through III on the Winkler scale,” and cites assertions from grape growers in Lake County that the portions of Lake County currently within the North Coast AVA have Region II and Region III climates. As noted previously, GDD accumulations for Noggle Vineyard, which is within the proposed Long Valley-Lake County AVA and the proposed North Coast AVA expansion area, place it in Region III. The expansion petition also included a map (Figure 36) showing average GDD accumulations for Lake County based on temperature data from 1971 to 2000. The map shows that both the proposed Long Valley-Lake County AVA and the portion of the High Valley AVA that is within the proposed North Coast AVA expansion area have GDD accumulations similar to the portion of the High Valley AVA that is currently within the North Coast AVA. Additionally, the proposed expansion area's GDD accumulations are similar to those of the established Red Hills Lake County AVA, which is entirely within the North Coast AVA.

Finally, the proposed North Coast AVA expansion petition compares annual rainfall amounts within the proposed expansion area to those in the established North Coast AVA. T.D. ATF-145 concluded that rainfall within the North Coast AVA “varies widely from 24.8 inches at Napa State Hospital to 62.2 inches in Middletown.” T.D. ATF-145 cited evidence that the western portion of Lake County currently within the North Coast AVA receives an average of 38.9 inches of rainfall annually at 5 weather stations, ranging from 28.9 inches at one station to 62.2 inches at another, and that Mendocino and Sonoma Counties, which are also within the North Coast AVA, receive an average of 39.7 and 34.7 inches of rain, respectively.

As previously discussed, the North Coast AVA expansion petition provided rainfall data from two locations within the southern half of the proposed Long Valley-Lake County AVA that are also within the proposed North Coast AVA expansion area. The average annual rainfall amounts at Noggle Vineyards and Spring Valley were 27.8 and 27.1 inches, respectively, which is lower than the average annual rainfall amounts for Mendocino County, Sonoma County and western Lake County, as described in T.D. ATF-145. However, the expansion petition also provided more recent rainfall averages from seven Lake County weather stations that are currently within the North Coast AVA (Figure 43).¹⁹ The data was gathered from 2012 to 2017. Rainfall averages from those locations ranged from a low of 23.68 at Kelseyville to 44.6 inches at Middletown. The petition states that, based in part on these rainfall amounts, the proposed expansion area's annual rainfall amounts are comparable to other Lake County locations that are currently within the North Coast AVA.

¹⁹ All figures and exhibits to the petition can be viewed in Docket TTB-2022-0003 at https://www.regulations.gov.

Proposed Modification of the High Valley AVA

As previously noted, the petition to establish the proposed Long Valley-Lake County AVA also requested an expansion of the established High Valley AVA. The High Valley AVA was established by T.D. TTB-30 on July 1, 2005 (70 FR 37998). The High Valley AVA is located to the west and southwest of the proposed AVA and shares a very small portion of its eastern boundary with the southeastern portion of the proposed AVA. Between the northern boundary of the High Valley AVA and the southwestern boundary of the proposed AVA is a small strip of land. In order to eliminate this “no man's land” between the established and proposed AVAs, the petition proposed moving the northern boundary of the High Valley AVA northward so that it is concurrent with the southwestern boundary of the proposed Long Valley-Lake County AVA. The proposal would increase the size of the High Valley AVA by 1,542 acres. The petition claims that the region between the established AVA and the proposed Long Valley-Lake County AVA has characteristics that are similar to those of the established High Valley AVA, namely soils and topography.

T.D. TTB-30 states that the primary soils of the High Valley AVA include Maymen, Hopland, and Mayacama series soils, which are primarily gravelly loams and gravelly sandy clay loams. Also present within the High Valley AVA are soils of the Konocti, Hambright, Benridge, and Sodabay series. The petition to establish the High Valley AVA states that the mineral serpentine is not found within the High Valley AVA. The petition to expand the High Valley AVA notes that many of the same soils are also found within the proposed expansion area, including Benridge-Konocti association, Benridge-Sodabay loams, Maymen-Etsel-Snook complex, Maymen-Hopland-Etsel association, and Maymen-Hopland-Mayacama soils. Furthermore, serpentine is not found within the proposed expansion area. The High Valley AVA expansion petition included a map (Exhibit 10) showing the soil units of the proposed expansion area and the High Valley AVA to support these claims. The expansion petition also notes that the Cache Formation, which is the geologic parent feature of the soils within the neighboring proposed Long Valley-Lake County AVA, is not present within the proposed High Valley AVA expansion area, nor is it present within the High Valley AVA. TTB notes that, although the petition did not characterize soils as a distinguishing feature of the proposed Long Valley-Lake County AVA, the soils in the proposed High Valley AVA expansion area are more similar to those of the High Valley AVA than to the soils of the neighboring proposed Long Valley-Lake County AVA.²⁰

²⁰ The petition mentioned the following soils within the proposed Long Valley-Lake County AVA: Lupoyoma silt loam, Wolf Creek gravelly loam, Maywood variant sandy loam, Manzanita gravelly loam, and Phipps Complex soil.

The proposed High Valley AVA expansion petition also states that the topography of the proposed expansion area is similar to that of the High Valley AVA. T.D. TTB-30 describes the High Valley AVA as having elevations of 1,700 to 1,800 feet along its valley floor and ridges that rise steeply above the valley floor. The elevations of these ridge tops along the southern face of High Valley Ridge range from 1,800 to 3,400 feet. The proposed expansion area contains the northern flanks of the High Valley Ridge. Elevations in the proposed expansion area range from a low of 1,720 feet along the adjacent boundary of the proposed Long Valley-Lake County AVA to over 2,000 feet where the proposed expansion area joins the High Valley AVA boundary along High Valley Ridge. Therefore, the elevations within the proposed expansion area are within the range of elevations found within the High Valley AVA.

Currently, the High Valley AVA boundary in the vicinity of the proposed expansion area follows the 2,000-foot elevation contour along the ridgeline of High Valley Ridge. It also follows a straight line drawn between the 2,000-foot elevation contour and the boundary of the Mendocino National Forest. The proposed boundary modification would move this portion of the High Valley AVA boundary north to the 1,720-foot elevation contour so that the northeastern boundary of the AVA would be concurrent with the southwestern boundary of the proposed Long Valley-Lake County AVA.

TTB Determination

TTB concludes that the petition to establish the 7,605-acre “Long Valley-Lake County” AVA and to concurrently modify the boundaries of the existing High Valley and North Coast AVAs merits consideration and public comment, as invited in this document.

TTB is proposing the establishment of the new AVA and the modification of the existing AVAs as one action. Accordingly, if TTB establishes the proposed Long Valley-Lake County AVA, then the proposed boundary modifications of the High Valley and North Coast AVAs would be approved concurrently. If TTB does not establish the proposed AVA, then the High Valley and North Coast AVA boundaries would not be modified.

Boundary Description

See the narrative boundary descriptions of the petitioned-for AVA and the boundary modifications of the two established AVAs in the proposed regulatory text published at the end of this document.

Maps

The petitioner provided the required maps, and they are listed below in the proposed regulatory text. You may also view the proposed Long Valley-Lake County AVA boundary and the proposed boundary modifications of the North Coast and High Valley AVAs on the AVA Map Explorer on the TTB website, at https://www.ttb.gov/wine/ava-map-explorer.

Impact on Current Wine Labels

Part 4 of the TTB regulations prohibits any label reference on a wine that indicates or implies an origin other than the wine's true place of origin. For a wine to be labeled with an AVA name, at least 85 percent of the wine must be derived from grapes grown within the area represented by that name, and the wine must meet the other conditions listed in § 4.25(e)(3) of the TTB regulations (27 CFR 4.25(e)(3)). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See § 4.39(i)(2) of the TTB regulations (27 CFR 4.39(i)(2)) for details.

If TTB establishes this proposed AVA, its name, “Long Valley-Lake County,” will be recognized as a name of viticultural significance under § 4.39(i)(3) of the TTB regulations (27 CFR 4.39(i)(3)). The text of the proposed regulation clarifies this point. Consequently, wine bottlers using the name “Long Valley-Lake County” in a brand name, including a trademark, or in another label reference as to the origin of the wine, would have to ensure that the product is eligible to use the AVA name as an appellation of origin if this proposed rule is adopted as a final rule. TTB is not proposing to designate “Long Valley,” standing alone, as a term of viticultural significance because the term “Long Valley” is used to refer to multiple areas in the United States. Therefore, wine bottlers using “Long Valley,” standing alone, in a brand name or in another label reference on their wines would not be affected by the establishment of this proposed AVA.

If approved, the establishment of the proposed Long Valley-Lake County AVA and the concurrent expansions of the North Coast AVA and the High Valley AVA would allow vintners to use the following terms as AVA appellations of origin if the wines meet the eligibility requirements for the appellation:

(1) “Long Valley-Lake County” and “North Coast” for wine made from grapes grown within the proposed Long Valley-Lake County AVA;

(2) “High Valley” and “North Coast” for wine made from grapes grown within the High Valley AVA and the proposed High Valley AVA expansion area; and

(3) “North Coast” for wine made from grapes grown in the North Coast AVA and the proposed North Coast AVA expansion area.

Public Participation

Comments Invited

TTB invites comments from interested members of the public on whether TTB should establish the proposed Long Valley-Lake County AVA and concurrently modify the boundaries of the established High Valley and North Coast AVAs. TTB is interested in receiving comments on the sufficiency and accuracy of the name, boundary, topography, and other required information submitted in support of the Long Valley-Lake County AVA petition. In addition, given the proposed AVA's location within the existing North Coast AVA, TTB is interested in comments on whether the evidence submitted in the petition regarding the distinguishing features of the proposed AVA sufficiently differentiates it from the existing AVA. TTB is also interested in comments on whether the geographic features of the proposed AVA are so distinguishable from the North Coast AVA that the proposed Long Valley-Lake County AVA should not be part of the established AVA. Please provide any available specific information in support of your comments.

TTB also invites comments on the proposed expansion of the existing North Coast and High Valley AVAs. TTB is interested in comments on whether the evidence provided in the petition sufficiently demonstrates that the proposed North Coast AVA expansion area is similar enough to the North Coast AVA to be included in the established AVA. Additionally, TTB is interested in comments on whether the evidence provided in the petition sufficiently demonstrates that the proposed High Valley AVA expansion area is similar enough to the High Valley AVA to be included in the established AVA. Comments should address the boundaries, topography, soils, and any other pertinent information that supports or opposes the proposed North Coast AVA and High Valley AVA boundary expansions.

Because of the potential impact of the establishment of the proposed Long Valley-Lake County AVA on wine labels that include the term “Long Valley-Lake County” as discussed above under Impact on Current Wine Labels, TTB is particularly interested in comments regarding whether there will be a conflict between the proposed area name and currently used brand names. If a commenter believes that a conflict will arise, the comment should describe the nature of that conflict, including any anticipated negative economic impact that approval of the proposed AVA will have on an existing viticultural enterprise. TTB is also interested in receiving suggestions for ways to avoid conflicts, for example, by adopting a modified or different name for the proposed AVA.

Submitting Comments

You may submit comments on this proposal by using one of the following methods:

• Federal e-Rulemaking Portal: You may send comments via the online comment form posted with this document within Docket No. TTB-2022-0003 on “Regulations.gov,” the Federal e-rulemaking portal, at https://www.regulations.gov. A direct link to that docket is available under Notice No. 209 on the TTB website at https://www.ttb.gov/wine/wine-rulemaking.shtml. Supplemental files may be attached to comments submitted via Regulations.gov. For complete instructions on how to use Regulations.gov, visit the site and click on the “Help” tab at the top of the page.

• U.S. Mail: You may send comments via postal mail to the Director, Regulations and Rulings Division, Alcohol and Tobacco Tax and Trade Bureau, 1310 G Street NW, Box 12, Washington, DC 20005.

Please submit your comments by the closing date shown above in this document. Your comments must reference Notice No. 209 and include your name and mailing address. Your comments also must be made in English, be legible, and be written in language acceptable for public disclosure. We do not acknowledge receipt of comments, and we consider all comments as originals.

Your comment must clearly state if you are commenting on your own behalf or on behalf of an organization, business, or other entity. If you are commenting on behalf of an organization, business, or other entity, your comment must include the entity's name as well as your name and position title. If you comment via Regulations.gov, please enter the entity's name in the “Organization” blank of the online comment form. If you comment via postal mail, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this document, selected supporting materials, and any online or mailed comments received about this proposal within Docket No. TTB-2022-0003 on the Federal e-rulemaking portal, Regulations.gov, at https://www.regulations.gov. A direct link to that docket is available on the TTB website at https://www.ttb.gov/wine/wine-rulemaking.shtml under Notice No. 209. You may also reach the relevant docket through the Regulations.gov search page at https://www.regulations.gov. For more information about Regulations.gov and how to comment, click on the “FAQ” tab at the bottom of the site's homepage.

All posted comments will display the commenter's name, organization (if any), city, and State, and, in the case of mailed comments, all address information, including email addresses. TTB may omit voluminous attachments or material that it considers unsuitable for posting.

You may also obtain copies of this proposed rule, all related petitions, maps and other supporting materials, and any electronic or mailed comments that TTB receives about this proposal at 20 cents per 8.5- x 11-inch page. Please note that TTB is unable to provide copies of USGS maps or any similarly-sized documents that may be included as part of the AVA petition. Contact TTB's Regulations and Rulings Division by email using the web form at https://www.ttb.gov/contact-rrd, or by telephone at 202-453-1039, ext. 175, to request copies of comments or other materials.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866. Therefore, it requires no regulatory assessment.

Drafting Information

Karen A. Thornton of the Regulations and Rulings Division drafted this document.

List of Subjects in 27 CFR Part 9

Wine.

Proposed Regulatory Amendment

For the reasons discussed in the preamble, we propose to amend title 27, chapter I, part 9, Code of Federal Regulations, as follows:

PART 9—AMERICAN VITICULTURAL AREAS

1. The authority citation for part 9 continues to read as follows:

Authority: 27 U.S.C. 205.

Subpart C—Approved American Viticultural Areas

2. Amend § 9.30 by revising paragraphs (c)(18) through (20) to read as follows:

§ 9.30 North Coast.

* * * * *

(c) * * *

(18) Then north-northwest in a straight line for approximately 7.6 miles to the 1,851-foot summit of Red Rocks;

(19) Then northwest in a straight line for approximately 4.3 miles to the 1,696-foot summit of Chalk Mountain;

(20) Then northwest in a straight line for approximately 6 miles to the 4,005-foot summit of Evans Peak;

* * * * *

3. Amend § 9.189 by:

a. Revising paragraphs (c)(3) through (5);

b. Removing paragraph (c)(6); and

c. Redesignating paragraphs (c)(7) through (11) as paragraphs (c)(6) through (c)(10).

The revisions read as follows:

§ 9.189 High Valley.

* * * * *

(c) * * *

(3) Proceed north along the western boundary of section 12 (also the eastern boundary of the Mendocino National Forest), T14N/R8W, to its intersection with the 1,720-foot elevation contour; then

(4) Proceed easterly along the meandering 1,720-foot elevation contour for approximately 11.3 miles, crossing onto the Benmore Canyon map, to the intersection of the elevation contour with the northern fork of an unnamed creek in Salt Canyon known locally as Salt Creek in section 23, T14N/R7W; then

(5) Proceed easterly (downstream) along Salt Creek approximately 760 feet to its intersection with the 1,600-foot elevation contour in section 23; then

* * * * *

4. Add § 9.__ to read as follows:

§ 9.__ Long Valley-Lake County.

(a) Name. The name of the viticultural area described in this section is “Long Valley-Lake County”. For purposes of part 4 of this chapter, “Long Valley-Lake County” is a term of viticultural significance.

(b) Approved maps. The three United States Geological Survey (USGS) 1:24,000 scale topographic maps used to determine the boundary of the Long Valley-Lake County viticultural area are titled:

(1) Clearlake Oaks, California, 1996;

(2) Benmore Canyon, California, 1996; and

(3) Lower Lake, California, 1993.

(c) Boundary. The Long Valley-Lake County viticultural area is located in Lake County, California. The boundary of the Long Valley-Lake County viticultural area is as described as follows:

(1) The beginning point is on the Benmore Canyon map at the intersection of State Highway 20 and the 1,600-foot elevation contour, just north of Sweet Hollow Creek, in section 35, T14N/R7W.

(2) From the beginning point, proceed northerly along the meandering 1,600-foot elevation contour for approximately 4.1 miles to its intersection with the northern fork of an unnamed creek in Salt Canyon known locally as Salt Creek in section 23, T14N/R7W; then

(3) Proceed westerly (upstream) along Salt Creek approximately 760 feet to its intersection with the 1,720-foot elevation contour in section 23, T14N/R7W; then

(4) Proceed northeasterly, then westerly along the meandering 1,720-foot elevation contour for approximately 11.3 miles, crossing onto the Clearlake Oaks map, to the intersection of the elevation contour with the Mendocino National Forest boundary along the western boundary of section 12, T15N/R8W; then

(5) Proceed north along the Mendocino National Forest boundary approximately 896 feet to its intersection with the unnamed creek in Sulphur Canyon; then

(6) Proceed northeast (downstream) along the unnamed creek approximately 770 feet to its intersection with the 1,400-foot elevation contour in section 12, T14N/R8W; then

(7) Proceed northeasterly, then northwesterly along the meandering 1,400-foot elevation contour to its intersection with the Mendocino National Forest boundary along the western boundary of section 36, T15N/R8W; then

(8) Proceed north along the western boundary of section 36 to its intersection with the northern boundary of section 36; then

(9) Proceed east along the northern boundary of section 36 to its intersection with the 1,400-foot elevation contour; then

(10) Proceed southeasterly along the 1,400-foot elevation contour, crossing onto the Benmore Canyon map and continuing easterly along the 1,400-foot elevation contour to its intersection with the southern boundary of section 11, T14N/R7W; then

(11) Proceed north in a straight line to the northern boundary of section 11; then

(12) Proceed east along the northern boundary of section 11, crossing Wolf Creek, to the intersection of the section boundary with the 1,320-foot elevation contour; then

(13) Proceed south in a straight line to the 1,400-foot elevation contour in section 11; then

(14) Proceed southeasterly along the 1,400-foot elevation contour to the western boundary of section 12, T14N/R7W; then

(15) Proceed southeast in a straight line, crossing the North Fork of Cache Creek, to the 1,400-foot elevation contour in section 12 west of the summit of Chalk Mountain; then

(16) Proceed southeasterly, then southerly along the meandering 1,400-foot elevation contour to its third intersection with the eastern boundary of section 13; then

(17) Proceed west in a straight line to an unnamed, unimproved 4-wheel drive road in section 13; then

(18) Proceed south in a straight line, crossing over a second unnamed, unimproved 4-wheel drive road in section 13, to the 1,240-foot elevation contour in section 24, T14N/R7W; then

(19) Proceed east in a straight line to the 1,400-foot elevation contour in section 24; then

(20) Proceed southeasterly, then northeasterly along the meandering 1,400-foot elevation contour to its intersection with an unnamed creek in section 19, T14N/R6W; then

(21) Proceed southwesterly (downstream) along the unnamed creek to its intersection with the 1,200-foot contour in section 19; then

(22) Proceed south in a straight line to the northern boundary of section 30, T14N/R6W; then

(23) Proceed southeast, then east along the northern boundary of section 30 to its intersection with the 1,400-foot elevation contour; then

(24) Proceed south in a straight line to the unnamed creek in Benmore Canyon in section 30; then

(25) Proceed southeast in a straight line to the 1,400-foot elevation contour in section 30; then

(26) Proceed southeasterly along the 1,400-foot elevation contour to its intersection with the eastern boundary of section 31, T14N/R6W; then

(27) Proceed generally south along the eastern boundary of section 31 and continuing along the eastern boundary of section 6, T13N/R6W, crossing onto the Lower Lake map, to the intersection of the boundary line and State Highway 20 north of Phipps Creek; then

(28) Proceed west in a straight line to the 1,200-foot elevation contour; then

(29) Proceed northerly along the 1,200-foot elevation contour, crossing onto the Benmore Canyon map, and continuing along the 1,200-foot elevation contour to its intersection with an unnamed trail in section 31, T14N/R6W; then

(30) Proceed north in a straight line to State Highway 20; then

(31) Proceed west along State Highway 20, returning to the beginning point.

Signed: March 2, 2022.
Mary G. Ryan,
Administrator.
Approved: March 2, 2022.
Timothy E. Skud,
Deputy Assistant Secretary (Tax, Trade, and Tariff Policy).

[FR Doc. 2022-04999 Filed 3-8-22; 8:45 am]

BILLING CODE 4810-31-P